COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete products and a service from the Procurement List that were previously furnished by nonprofit agencies employing persons who are blind or have other severe disabilities.

DATES: Comments must be received on or before November 5, 2017.

ADDRESSES: Committee for Purchase From People Who Are Blind or Severely Disabled, 1401 S. Clark Street, Suite 715, Arlington, Virginia 22202-4149.

FOR FURTHER INFORMATION CONTACT: For further information or to submit comments contact: Amy B. Jensen, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following products and service are proposed for deletion from the Procurement List:

Products

NSN(s)—Product Name(s):

6532-00-926-9964—Smock, Mans Dental Operating

6532-00-926-9975—Smock, Mans Dental Operating

6532-00-926-9976—Smock, Mans Dental Operating

6532-00-159-4881—Smock, Mans Dental Operating

Mandatory Source(s) of Supply: Human Technologies Corporation, Utica, NY

Contracting Activity: Defense Logistics Agency Troop Support

NSN(s)—Product Name(s):

5510-00-NSH-0044—Stakes/Lath, Survey, Wood

5510-00-NSH-0045—Stakes/Lath, Survey, Wood

5510-00-NSH-0046—Stakes/Lath, Survey, Wood

5510-00-NSH-0047—Stakes/Lath, Survey, Wood

5510-00-NSH-0048—Stakes/Lath, Survey, Wood

5510-00-NSH-0049—Stakes/Lath, Survey, Wood

5510-00-NSH-0050—Stakes/Lath, Survey, Wood

5510-00-NSH-0051—Stakes/Lath, Survey, Wood

5510-00-NSH-0052—Stakes/Lath, Survey, Wood

5510-00-NSH-0053—Stakes/Lath, Survey, Wood

5510-00-NSH-0054—Stakes/Lath, Survey, Wood

5510-00-NSH-0055—Stakes/Lath, Survey, Wood

5510-00-NSH-0056—Stakes/Lath, Survey, Wood

5510-00-NSH-0057—Stakes/Lath, Survey, Wood

5510-00-NSH-0058—Stakes/Lath, Survey, Wood

5510-00-NSH-0059—Stakes/Lath, Survey, Wood

5510-00-NSH-0060—Stakes/Lath, Survey, Wood

5510-00-NSH-0061—Stakes/Lath, Survey, Wood

5510-00-NSH-0062—Stakes/Lath, Survey, Wood

5510-00-NSH-0063—Stakes/Lath, Survey, Wood

5510-00-NSH-0064—Stakes/Lath, Survey, Wood

5510-00-NSH-0065—Stakes/Lath, Survey, Wood

5510-00-NSH-0066—Stakes/Lath, Survey, Wood

5510-00-NSH-0067—Stakes/Lath, Survey, Wood

5510-00-NSH-0068—Stakes/Lath, Survey, Wood

5510-00-NSH-0069—Stakes/Lath, Survey, Wood

5510-00-NSH-0070—Stakes/Lath, Survey, Wood

5510-00-NSH-0071—Stakes/Lath, Survey, Wood

5510-00-NSH-0072—Stakes/Lath, Survey, Wood

5510-00-NSH-0073—Stakes/Lath, Survey, Wood

5510-00-NSH-0074—Stakes/Lath, Survey, Wood

5510-00-NSH-0075—Stakes/Lath, Survey, Wood

5510-00-NSH-0076—Stakes/Lath, Survey, Wood

5510-00-NSH-0077—Stakes/Lath, Survey, Wood

5510-00-NSH-0078—Stakes/Lath, Survey, Wood

5510-00-NSH-0079—Stakes/Lath, Survey, Wood

5510-00-NSH-0080—Stakes/Lath, Survey, Wood

5510-00-NSH-0081—Stakes/Lath, Survey, Wood

5510-00-NSH-0082—Stakes/Lath, Survey, Wood

5510-00-NSH-0083—Stakes/Lath, Survey, Wood

5510-00-NSH-0084—Stakes/Lath, Survey, Wood

5510-00-NSH-0085—Stakes/Lath, Survey, Wood

5510-00-NSH-0086—Stakes/Lath, Survey, Wood

5510-00-NSH-0087—Stakes/Lath, Survey, Wood

5510-00-NSH-0088—Stakes/Lath, Survey, Wood

5510-00-NSH-0089—Stakes/Lath, Survey, Wood

5510-00-NSH-0090—Stakes/Lath, Survey, Wood

5510-00-NSH-0091—Stakes/Lath, Survey, Wood

5510-00-NSH-0092—Stakes/Lath, Survey, Wood

5510-00-NSH-0093—Stakes/Lath, Survey, Wood

5510-00-NSH-0094—Stakes/Lath, Survey, Wood

5510-00-NSH-0095—Stakes/Lath, Survey, Wood

5510-00-NSH-0096—Stakes/Lath, Survey, Wood

5510-00-NSH-0097—Stakes/Lath, Survey, Wood

5510-00-NSH-0101—Stakes/Lath, Survey, Wood

5510-00-NSH-0102—Stakes/Lath, Survey, Wood

5510-00-NSH-0103—Stakes/Lath, Survey, Wood

5510-00-NSH-0104—Stakes/Lath, Survey, Wood

5510-00-NSH-0105—Stakes/Lath, Survey, Wood

5510-00-NSH-0106—Stakes/Lath, Survey, Wood

Mandatory Source(s) of Supply: Siskiyou Opportunity Center, Inc., Mt. Shasta, CA

Contracting Activity: Dept of Agriculture, Forest Service, Klamath National Forest

NSN(s)—Product Name(s): 8470-00-NSH-0030—Improved Oxygen Harness

Mandatory Source(s) of Supply: Employment Source, Inc., Fayetteville, NC

Contracting Activity: Army Contracting Command—Aberdeen Proving Ground, Natick Contracting Division

Service

Service Type: Mail and Messenger Service

Mandatory for: Naval Facilities Engineering Command (NAVFAC): Southern Division Charleston, SC

Mandatory Source(s) of Supply: Palmetto Goodwill Services, North Charleston, SC

Contracting Activity: Dept of the Navy, Navy Facilities Engineering Command

Amy B. Jensen,
Director, Business Operations.

[FR Doc. 2017-21653 Filed 10-6-17; 8:45 am]

BILLING CODE 6353-01-P